DEPARTMENT OF COMMERCE

International Trade Administration

[A-357-820 and A-560-830]

Biodiesel From Argentina and Indonesia: Postponement of Preliminary Determinations of Antidumping Duty Investigations

AGENCY: Enforcement and Compliance, International Trade Administration, Department of Commerce.

DATES: Effective August 15, 2017.

FOR FURTHER INFORMATION CONTACT: David Lindgren (Argentina) at (202) 482-3870, or Myrna Lobo (Indonesia) at (202) 482-2371, AD/CVD Operations, Enforcement and Compliance, International Trade Administration, U.S. Department of Commerce, 1401 Constitution Avenue NW., Washington, DC 20230.

SUPPLEMENTARY INFORMATION:

Background

On April 12, 2017, the Department of Commerce (Department) initiated antidumping duty (AD) investigations on biodiesel from Argentina and Indonesia.¹ Currently, the preliminary determinations of these investigations are due no later than August 30, 2017.

¹ See Biodiesel from Argentina and Indonesia: Initiation of Less-Than-Fair-Value Investigations, 82 FR 18428 (April 19, 2017).

Postponement of Preliminary Determination

Section 733(b)(1)(A) of the Tariff Act of 1930, as amended (the Act), requires the Department to issue the preliminary determination in an AD investigation within 140 days after the date on which the Department initiated the investigation. However, section 733(c)(1)(A) of the Act and 19 CFR 351.205(e) allow the Department to postpone the preliminary determination at the request of the petitioner.

On July 6, 2017, the petitioner ² submitted a timely request pursuant to 19 CFR 351.205(e) to postpone the preliminary determinations.³ For the reasons stated above and because there are no compelling reasons to deny the request, the Department, in accordance with section 733(c)(1)(A) of the Act and 19 CFR 351.205(e), is postponing the deadline for the preliminary determinations to no later than 190 days after the day on which the investigations were initiated. Accordingly, the Department will issue the preliminary determinations no later than October 19, 2017. In accordance with section 735(a)(1) of the Act and 19 CFR 351.210(b)(1), the deadline for the final determinations of these investigations will continue to be 75 days after the date of the preliminary determinations, unless postponed.

² The National Biodiesel Board Fair Trade Coalition and its individual members.

³ See letter from the petitioner entitled “Biodiesel from Argentina and Indonesia: Request to Extend Deadline For Alleging Particular Market Situation and Request For Postponement Of The Preliminary Determination,” dated July 6, 2017.

This notice is issued and published pursuant to section 733(c)(2) of the Act and 19 CFR 351.205(f)(1).

Dated: August 9, 2017.
Gary Taverman,
Deputy Assistant Secretary for Antidumping and Countervailing Duty Operations, Performing the non-exclusive functions and duties of the Assistant Secretary for Enforcement and Compliance.

[FR Doc. 2017-17197 Filed 8-14-17; 8:45 am]

BILLING CODE 3510-DS-P